DEPARTMENT OF ENERGY

DOE Implementation Plan for Recommendation 99-1 of the Defense Nuclear Facilities Safety Board, Safe Storage of Pits at Pantex

AGENCY: Department of Energy.

ACTION: Notice.

SUMMARY: The Defense Nuclear Facilities Safety Board published Recommendation 99-1, concerning the safe storage of pits at the Pantex plant, on August 27, 1999 (64 FR 46894). Under section 315(e) of the Atomic Energy Act of 1954, as amended, 42 U.S.C. 2286d(e), the Department of Energy must transmit an implementation plan on Recommendation 99-1 to the Defense Nuclear Facilities Safety Board after acceptance of the Recommendation by the Secretary. The Department's implementation plan was sent to the Safety Board on February 01, 2000, and is available for review in the Department of Energy Public Reading Rooms.

ADDRESSES: Send comments, data, views, or arguments concerning the implementation plan to: Department of Energy, 1000 Independence Avenue, SW, Washington, DC 20585 before March 13, 2000.

FOR FURTHER INFORMATION CONTACT: Mr. David E. Beck, Deputy Assistant Secretary for Military Application and Stockpile Operations, Defense Programs, Department of Energy, 1000 Independence Avenue, SW, Washington, DC 20585.

Issued in Washington, DC, on February 7, 2000.
Mark B. Whitaker, Jr.,
Departmental Representative to the Defense Nuclear Facilities Safety Board

The Secretary of Energy

February 1, 2000.

The Honorable John T. Conway

Chairman, Defense Nuclear Facilities Safety Board, 625 Indiana Avenue, NW, Suite 700, Washington, DC 20004.

Dear Mr. Chairman: We are pleased to forward the Department of Energy implementation plan for addressing the issues raised in the Defense Nuclear Facilities Safety Board Recommendation 99-1, “Safe Storage of Pits at Pantex.” Defense Nuclear Facilities Safety Board Recommendation 99-1 is consistent with the Department's focus to develop and implement improved pit storage programs.

The primary objective of this implementation plan is to expeditiously repackage pits into containers that will provide long-term, safe storage. The activities delineated in the plan are aimed at achieving that goal and provide for the development and implementation of a pit container surveillance program so the Department can monitor the AL-R8 Sealed Insert to ensure its continued quality and reliability.

Mr. Dave Beck, Deputy Assistant Secretary for Military Application and Stockpile Operations, Defense Programs, is the responsible manager for this implementation plan. He can be contacted at 202-586-4879.

Yours sincerely,
Bill Richardson,
Enclosure.

[FR Doc. 00-3281 Filed 2-10-00; 8:45 am]

BILLING CODE 6450-01-P